DEPARTMENT OF THE INTERIOR

National Park Service

[NPS-NER-GETT-1767: PPMPSPD1Z.YM0000: PPNEGETTS1]

Gettysburg National Military Park Advisory Commission Meeting Schedule for 2015

AGENCY: National Park Service, Interior.

ACTION: Notice of meetings.

SUMMARY: This notice announces a schedule of upcoming meetings for the Gettysburg National Military Park Advisory Commission.

DATES: The meetings are scheduled for April 16, 2015, and September 17, 2015. All scheduled meetings will begin at 7:00 p.m. and will end by 9:00 p.m.

ADDRESSES: All scheduled meetings will be held at the Gettysburg National Military Museum/Visitor Center, 1195 Baltimore Pike, Gettysburg PA 17325, in the Ford Education Center.

FOR FURTHER INFORMATION CONTACT: Jo Sanders, Secretary to the Superintendent, Gettysburg National Military Park, 1195 Baltimore Pike, Suite 100, Gettysburg, PA 17325, by telephone at (717) 338-4403.

SUPPLEMENTARY INFORMATION: The scheduled meetings are open to the public. The meeting agenda consists of an operational update on park activities, including interpretation and education programs, maintenance projects, resource management programs, planning projects, administrative updates, plans for the 2016 Centennial of the National Park Service, other park projects and a citizen's open forum. Any member of the public may file with the Commission a written statement concerning any issues relating to Gettysburg National Military Park.

Before including your address, telephone number, email address, or other personal identifying information in your comments, you should be aware that your entire comment—including your personal information—may be made publicly available at any time. While you may ask us in your comment to withhold your personal identifying information from public review, we cannot guarantee that we will be able to do so. The statement should be addressed to Gettysburg National Military Park, Attn: Advisory Commission, 1195 Baltimore Pike, Suite 100, Gettysburg, PA 17325.

Dated: March 18, 2015.
Alma Ripps,
Chief, Office of Policy.

[FR Doc. 2015-06793 Filed 3-24-15; 8:45 am]

BILLING CODE 4310-EE-P